COMMITTEE FOR PURCHASE FROM PEOPLE WHO ARE BLIND OR SEVERELY DISABLED

Procurement List; Proposed Additions and Deletions

AGENCY: Committee for Purchase from People Who Are Blind or Severely Disabled.

ACTION: Proposed additions to and deletions from Procurement List.

SUMMARY: The Committee is proposing to add to the Procurement List products and services to be furnished by nonprofit agencies employing persons who are blind or have other severe disabilities, and to delete products previously furnished by such agencies.

COMMENTS MUST BE RECEIVED ON OR BEFORE: July 22, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the possible impact of the proposed actions.

Additions

If the Committee approves the proposed additions, the entities of the Federal Government identified in this notice for each product or service will be required to procure the products and services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

The following products and services are proposed for addition to Procurement List for production by the nonprofit agencies listed:

Products

Product/NSN: Dessert Base (Vanilla),

8940-00-NSH-2001.

NPA: Advocacy and Resources Corp. (ARC), Cookeville, TN, CW Resources, Inc., New Britain, CT, Knox County Association for Retarded Citizens, Inc., Vincennes, IN, Transylvania Vocational Services, Inc., Brevard, NC.

Contract Activity: USDA, Farm Service Agency, Kansas City, MO.

Product/NSN: Dessert Base (Chocolate),

8940-00-NSH-2002.

NPA: Advocacy and Resources Corp. (ARC), Cookeville, TN, CW Resources, Inc., New Britain, CT, Knox County Association for Retarded Citizens, Inc., Vincennes, IN, Transylvania Vocational Services, Inc., Brevard, NC.

Contract Activity: USDA, Farm Service Agency, Kansas City, MO.

Product/NSN: Dessert Base (Butterscotch),

8940-00-NSH-2003.

NPA: Advocacy and Resources Corp. (ARC), Cookeville, TN, CW Resources, Inc., New Britain, CT, Knox County Association for Retarded Citizens, Inc., Vincennes, IN, Transylvania Vocational Services, Inc., Brevard, NC.

Contract Activity: USDA, Farm Service Agency, Kansas City, MO.

Product/NSN: Dessert Base (Banana),

8940-00-NSH-2004.

NPA: Advocacy and Resources Corp. (ARC), Cookeville, TN, CW Resources, Inc., New Britain, CT, Knox County Association for Retarded Citizens, Inc., Vincennes, IN, Transylvania Vocational Services, Inc., Brevard, NC.

Contract Activity: USDA, Farm Service Agency, Kansas City, MO.

Product/NSN: Dessert Base (Cheesecake),

8940-00-NSH-2005.

NPA: Advocacy and Resources Corp. (ARC), Cookeville, TN, CW Resources, Inc., New Britain, CT, Knox County Association for Retarded Citizens, Inc., Vincennes, IN, Transylvania Vocational Services, Inc., Brevard, NC.

Contract Activity: USDA, Farm Service Agency, Kansas City, MO.

Product/NSN: Dessert Base (Tapioca),

8940-00-NSH-2006.

NPA: Advocacy and Resources Corp. (ARC), Cookeville, TN, CW Resources, Inc., New Britain, CT, Knox County Association for Retarded Citizens, Inc., Vincennes, IN, Transylvania Vocational Services, Inc., Brevard, NC.

Contract Activity: USDA, Farm Service Agency, Kansas City, MO.

Product/NSN: USMC Individual First Aid Kit,

6545-00-NSH-2001,

6545-00-NSH-2002,

6545-00-NSH-2003.

NPA: Chautauqua County Chapter, NYSARC, Jamestown, NY.

Contract Activity: U.S. Marine Corps, Quantico, VA.

Services

Service Type/Location: Administrative Services, USDA, Animal and Plant Health Inspection Service, Raleigh, NC.

NPA: Employment Source, Inc., Fayetteville, NC.

Contract Activity: Department of Agriculture.

Service Type/Location: Base Supply Center, U.S. Army Maneuver Support Center, Fort Leonard Wood, MO.

NPA: Alphapointe Association for the Blind, Kansas City, MO.

Contract Activity: U.S. Army Maneuver Support Center, Fort Leonard Wood, MO.

Service Type/Location: Office Supply Store, Herbert Hoover Building, Washington, DC.

NPA: Columbia Lighthouse for the Blind, Washington, DC.

Contract Activity: Department of Commerce.

Deletions

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for deletion from the Procurement List.

The following products have been proposed for deletion from the Procurement List:

Products

Product/NSN: Floorboard, Vehicular,

2510-01-063-3892.

NPA: None currently authorized.

Contract Activity: Defense Supply Center—Columbus, Columbus, OH.

Product/NSN: Case, Spectacle,

6540-01-454-6929,

6540-01-188-6023.

NPA: Dallas Lighthouse for the Blind, Inc., Dallas, TX, Travis Association for the Blind, Austin, TX.

Contracting Activity: Defense Supply Center—Philadelphia, Philadelphia, PA.

Sheryl D. Kennerly,
Director, Information Management.

[FR Doc. 02-15730 Filed 6-20-02; 8:45 am]

BILLING CODE 6353-01-P